INTERNATIONAL TRADE COMMISSION

[Inv. No. 337-TA-615]

In the Matter of Certain Ground Fault Circuit Interrupters and Products Containing the Same; Notice of Investigation

AGENCY: U.S. International Trade Commission.

ACTION: Institution of investigation pursuant to 19 U.S.C. 1337.

SUMMARY: Notice is hereby given that a complaint was filed with the U.S. International Trade Commission on August 16, 2007, under section 337 of the Tariff Act of 1930, as amended, 19 U.S.C. 1337, on behalf of Pass & Seymour, Inc. of Syracuse, New York. Letters supplementing the complaint were filed on September 4, 5, and 6, 2007. The complaint, as supplemented, alleges violations of section 337 in the importation into the United States, the sale for importation, and the sale within the United States after importation of certain ground fault circuit interrupters and products containing the same by reason of infringement of certain claims of U.S. Patent Nos. 5,594,398, RE38,293, 7,154,718, 7,164,564, 7,212,386, and 7,256,973. The complaint further alleges that an industry in the United States exists as required by subsection (a)(2) of section 337.

The complainant requests that the Commission institute an investigation and, after the investigation, issue a permanent exclusion order and permanent cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Bryan F. Moore, Esq., Office of Unfair Import Investigations, U.S. International Trade Commission, telephone (202) 205-2767.

Authority: The authority for institution of this investigation is contained in section 337 of the Tariff Act of 1930, as amended, and in section 210.10 of the Commission's Rules of Practice and Procedure, 19 CFR 210.10 (2006).

Scope of Investigation: Having considered the amended complaint, the U.S. International Trade Commission, on September 17, 2007, Ordered that—

(1) Pursuant to subsection (b) of section 337 of the Tariff Act of 1930, as amended, an investigation be instituted to determine whether there is a violation of subsection (a)(1)(B) of section 337 in the importation into the United States, the sale for importation, or the sale within the United States after importation of certain ground fault circuit interrupters and products containing the same by reason of infringement of one or more of claims 1-36 of U.S. Patent No. 5,594,398; claims 12, 14, 19, 25, and 26 of U.S. Patent No. RE38,293; claims 52, 59, and 60 of U.S. Patent No. 7,154,718; claims 1-3, 13, 15, and 22 of U.S. Patent No. 7,164,564; claims 1, 9, and 15-17 of U.S. Patent No. 7,212,386; and claims 1-6, 8, 12, 21, 22, and 24-34 of U.S. Patent No. 7,256,973, and whether an industry in the United States exists as required by subsection (a)(2) of section 337;

(2) For the purpose of the investigation so instituted, the following are hereby named as parties upon which this notice of investigation shall be served:

(a) The complainant is—

Pass & Seymour, Inc., 50 Boyd Avenue, Syracuse, New York 13209.

(b) The respondents are the following entities alleged to be in violation of section 337, and are the parties upon which the amended complaint is to be served:

General Protecht Group, Inc., 555 Daxing Rd West, Liushi Yueqing, Zhejiang 325600, China.

General Protecht Group U.S., Inc., 3353 Peachtree Road NE., Suite 1040, Atlanta, Georgia 30326.

Shanghai ELE Manufacturing Corporation, Sec 2 Xingcheng Industrial Zone, Qingpu 201703, Shanghai, China.

Shanghai Meihao Electric, Inc., 58 Shane Rd., Jiangqiao Town Jiading Borough 201803, Shanghai, China.

Wenzhou Trimone Company, Zhiguang Industrial Zone, Liushi Town Yueqing, Zhejiang 325604, China.

Cheetah USA Corp., 9091 Sandy Parkway, Sandy, Utah 84070.

GX Electric, 2001 NW 25th Avenue, Pompano Beach, Florida 33069.

Nicor Inc., 2200 Midtown Place NE., Suite A, Albuquerque, New Mexico 87107.

Orbit Industries, Inc., 2100 S. Figueroa Street, Los Angeles, California 90007.

The Designer's Edge, 11730 NE 12th Street, Bellevue, Washington 98005.

Universal Security Instruments, Inc., 7-A Gwynns Mills Court, Owings Mills, Maryland 21117.

Colacino Electric Supply, Inc., 319 West Union Street, Newark, New York 14513.

Ingram Products, Inc., 8725 Youngerman Court, Suite 206, Jacksonville, Florida 32244.

Lunar Industrial & Electrical, Inc., 15975 SW 117th Avenue, Miami, Florida 33177.

Quality Distributing, LLC., 2056 NW Aloclek Drive, Suite 325, Hillsboro, Oregon 97124.

(c) The Commission investigative attorney, party to this investigation, is Bryan F. Moore, Esq., Office of Unfair Import Investigations, U.S. International Trade Commission, 500 E Street, SW., Suite 401, Washington, DC 20436; and

(3) For the investigation so instituted, the Honorable Carl C. Charneski is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or cease and desist order or both directed against a respondent.

Issued: September 18, 2007.
By order of the Commission.
Marilyn R. Abbott,
Secretary to the Commission.

[FR Doc. E7-18753 Filed 9-21-07; 8:45 am]

BILLING CODE 7020-02-P